ENVIRONMENTAL PROTECTION AGENCY

[ER-FRL-8589-05]

Environmental Impacts Statements; Notice of Availability

Responsible Agency: Office of Federal Activities, General Information (202) 564-1399 or http://www.epa.gov/compliance/nepa/.

Weekly receipt of Environmental Impact Statements.

Filed 01/05/2009 through 01/09/2009.

Pursuant to 40 CFR 1506.9.

EIS No. 20090001, Final EIS, FHW, IA, Southeast (SE) Connector in Des Moines, Iowa, To Provide a Safe and Efficient Link between the MLK Jr. Parkway at SE 14th Street to the U.S. 65 Bypass, Funding, U.S. Army COE Section 404 and NPDES Permits, Polk County, IA, Wait Period Ends: 02/17/2009, Contact: Philip Barnes 515-233-7300.

EIS No. 20090002, Draft EIS, USN, VA, Norfolk Harbor Channel, Proposed Dredging to Deepen Five Miles of the Federal Navigation Channel in the Elizabeth River from Lamberts Bend to the Norfolk Naval Shipyard (NNS), Norfolk and Portsmouth, VA, Comment Period Ends: 03/02/2009, Contact: John Conway 904-542-6159.

EIS No. 20090003, Final EIS, FHW, NY, Fort Drum Connector Route Project, Proposed Link between I-81 and U.S. Route 11 at the Fort Drum North Gate, Town of Le Ray and Pamela, Jefferson County, NY, Wait Period Ends: 02/17/2009, Contact: Jeffrey W. Kalb 518-431-4127.

EIS No. 20090004, Draft EIS, NPS, MO, Jefferson National Expansion Memorial, General Management Plan, Implementation, St. Louis, MO, Comment Period Ends: 03/16/2009, Contact: Tom Bradley 314-655-1600.

EIS No. 20090005, Draft EIS, BLM, CO, Red Cliff Mine Project, Construct a New Underground Coal Mine on Private and Federal Lands, Federal Coal Lease by Application, Mesa and Garfield County, CO, Comment Period Ends: 03/16/2009, Contact: Glenn Wallace 303-239-3736.

EIS No. 20090006, Final EIS, MMS, 00, Cape Wind Energy Project, Construction, Operation and Maintenance, and Decommissioning of an Electric Generation Facility, Barnstable, Nantucket and Duke Counties, MA and Washington County, RI, Wait Period Ends: 02/17/2009, Contact: Dr. Rodney E. Cluck 703-787-1087.

Dated: January 13, 2009.
Robert W. Hargrove,
Director, NEPA Compliance Division, Office of Federal Activities.

[FR Doc. E9-902 Filed 1-15-09; 8:45 am]

BILLING CODE 6560-50-P